OFFICE OF GOVERNMENT ETHICS

Privacy Act of 1974; Systems of Records

AGENCY: Office of Government Ethics (OGE).

ACTION: Notice of proposed new and revised systems of records.

SUMMARY: In this notice, OGE is proposing to revise and rename two existing Governmentwide systems of records under the Privacy Act covering Executive Branch Personnel Public Financial Disclosure Reports and Other Name-Retrieved Ethics Program Records, and Executive Branch Confidential Financial Disclosure Reports. In addition, OGE is establishing five new internal systems of records for employees of the Office of Government Ethics only, covering Pay, Leave and Travel Records, Telephone Call Detail Records, Grievance Records, Computer Systems Activity and Access Records, and Employee Locator and Emergency Notification Records. This notice fulfills the requirement of the Privacy Act of 1974 that an agency publish a Federal Register notice of its systems of records.

DATES: Public comments are invited and must be received by March 24, 2003. These proposed new and revised systems of records will become effective without change May 22, 2003, unless comments are received which result in a contrary determination by OGE.

ADDRESSES: Comments on any aspect of these OGE systems of records should be sent to the Office of Government Ethics, Suite 500, 1201 New York Avenue, NW., Washington, DC 20005-3917, Attention: Ms. Newton. Electronic comments may also be sent to OGE's Internet E-mail address at usoge@oge.gov (such comments should include the caption “OGE Privacy Act New and Revised Systems of Records”).

FOR FURTHER INFORMATION CONTACT: Elaine Newton, Attorney-Advisor, Office of Government Ethics, telephone: 202-208-8000, extension 1137; TDD: 202-208-8025; FAX: 202-208-8037.

SUPPLEMENTARY INFORMATION: A. Background. Under the Privacy Act, 5 U.S.C. 552a(e)(4), each agency is required to publish in the Federal Register notice of the establishment and revision of its systems notices. The Office of Government Ethics (OGE) used to be part of the Office of Personnel Management (OPM). Not long after OGE became a separate agency on October 1, 1989, OGE published in the Federal Register two Governmentwide systems of records (55 FR 6327-6331 (February 22, 1990)) that were previously among OPM's systems of records (old OPM/GOVT-4 & -8). This present notice revises those two existing Governmentwide systems of records and establishes five new internal OGE systems of records.

B. Revised Systems of Records. OGE is proposing to revise and rename its two existing Governmentwide systems of records: OGE/GOVT-1 (Executive Branch Public Financial Disclosure Reports and Other Ethics Program Records) and OGE/GOVT-2 (Confidential Statements of Employment and Financial Interests). The proposed revisions to both systems include a change in the name of each system to: Executive Branch Personnel Public Financial Disclosure Reports and Other Name-Retrieved Ethics Program Records (OGE/GOVT-1) and Executive Branch Confidential Financial Disclosure Reports (OGE/GOVT-2). Other proposed revisions include different systems managers, as well as additional routine uses including disclosures between agencies with respect to transferred or detailed employees, to Congress (on behalf of the subject individual), to an adjudicative body and the Department of Justice in connection with litigation, and to contractors and other non-Government employees working on ethics matters for agencies. In addition, a change in the pay threshold for the collection of the public financial disclosure reports would be reflected in OGE/GOVT-1.

C. New Internal Systems of Records. OGE is also proposing to establish five new internal systems of records to cover current and former OGE employees: OGE/INTERNAL-1 (Pay, Leave and Travel Records), OGE/INTERNAL-2 (Telephone Call Detail Records), OGE/INTERNAL-3 (Grievance Records), OGE/INTERNAL-4 (Computer Systems Activity and Access Records), and OGE/INTERNAL-5 (Employee Locator and Emergency Notification Records).

The records for maintenance in proposed OGE/INTERNAL-1 are those used to administer the pay, leave, and travel requirements of OGE. In this proposed system, the records could be disclosed for a number of routine uses compatible with the purposes for which the information in the records was collected, including to the Department of the Treasury, to the Internal Revenue Service, to authorized employees of another Federal agency that provides OGE with assistance in processing pay, leave and travel, to the Office of Management and Budget, to Congress, to a court or another adjudicative body, to an adjudicative body and the Department of Justice in connection with litigation, to labor organization officials for exclusive representation purposes or to the appropriate Department of Health and Human Services employees for matters related to paternity and child support. These documents are located in a secured environment and are maintained and disposed of in accordance with the National Archives and Records Administration General Records Schedules 2 and 9.

The records for maintenance in OGE/INTERNAL-2 are those used to verify the telephone usage of current and former OGE employees, who receive telephone calls placed from or charged to telephones of the Office of Government Ethics. This proposed system is being established consistent with the Office of Management and Budget recommendation that agencies create a system of records to maintain telephone call detail records that are used to determine accountability for telephone usage. 52 FR 12990-12992 (04/20/87). In this proposed system, the records could be disclosed for a number of routine uses compatible with the purposes for which the information in the records was collected, including to telecommunications companies, to the General Services Administration, to Congress, to a court or other tribunal, to the Department of Justice in connection with litigation, to an appropriate Federal, State or local agency responsible for investigating possible violations of civil, criminal law or regulation, or to labor organization officials for exclusive representation purposes. These documents are located in a secured environment and are maintained and disposed of in accordance with the National Archives and Records Administration General Records Schedule 12.

The records for maintenance in proposed OGE/INTERNAL-3 are those that contain information relating to grievances filed by OGE employees under administrative procedures authorized by 5 CFR part 771 as well as records of negotiated grievances and arbitration systems that OGE has or may establish through negotiations with recognized labor organizations in accordance with 5 U.S.C. 7121. In this proposed system, the records could be disclosed for a number of routine uses compatible with the purposes for which the information in the records was collected, including to Congress, a court or another adjudicative body, an adjudicative body and the Department of Justice in connection with litigation, to any source from which additional information is required in the course of processing a grievance, to the extent necessary to identify the individual, inform the source of the purpose(s) of the request, and identify the type of information required, to labor organization officials for exclusive representation purposes, or to the Department of Labor for labor-management functions. These documents are located in a secured environment and are maintained and disposed of in accordance with the appropriate National Archives and Records Administration General Records Schedules or other records disposition authority.

The records for maintenance in proposed OGE/INTERNAL-4 are those that contain data used by OGE systems and security personnel, or persons authorized to assist these individuals to plan and manage system services and to perform their official duties. In this proposed system, the records could be disclosed for a number of routine uses compatible with the purposes for which the information in the records was collected, including to investigate improper access or other improper activity related to computer system access; to initiate disciplinary or other such action; and/or where the record(s) may appear to indicate a violation or potential violation of the law, to refer such record(s) to the appropriate law enforcement agency for investigation. These documents are located in a secured environment and are maintained and disposed of in accordance with the National Archives and Records Administration General Records Schedule 20.

The records for maintenance in proposed OGE/INTERNAL-5 are those used to identify an individual for OGE officials to contact should an emergency (medical or otherwise) occur while the employee is on the job. The information contained in this system as proposed could also be used by authorized OGE personnel to contact OGE employees working from home or, on infrequent occasions, to contact OGE employees absent from work about work-related issues. These documents are located in a secured environment and are maintained and disposed of in accordance with the appropriate OGE records disposition authority.

D. Consultation with OMB and the Congress. In accordance with 5 U.S.C. 552a(r) of the Privacy Act, the Office of Government Ethics (OGE) has provided a report on the new and proposed revised systems to the Office of Management and Budget (OMB) and the Committee on Government Reform and Oversight of the House of Representatives and the Committee on Governmental Affairs of the Senate.

Approved: January 10, 2003.
Amy L. Comstock,
Director, Office of Government Ethics.

Accordingly, the Office of Government Ethics is publishing the following notice of proposed revised Privacy Act Governmentwide systems of records and proposed new OGE internal Privacy Act systems of records:

OGE/GOVT-1

SYSTEM NAME:

Executive Branch Personnel Public Financial Disclosure Reports and Other Name-Retrieved Ethics Program Records.

SYSTEM LOCATION:

Office of Government Ethics, Suite 500, 1201 New York Avenue, NW., Washington, DC 20005-3917, and designated agency ethics offices.

SECURITY CLASSIFICATION:

None.

CATEGORIES OF INDIVIDUALS COVERED BY THE SYSTEM:

This system contains records on: The President, Vice President, and candidates for those offices; officers and employees including special Government employees, whose positions are classified above GS-15 of the General Schedule or at an equivalent rate of basic pay equal to or greater than 120% of the minimum rate of basic pay for GS-15; officers or employees in a position determined by the Director of the Office of Government Ethics to be of equal classification to GS-15 or above; Administrative Law Judges; excepted service employees in positions that are of a confidential or policymaking nature unless an employee or group of employees are exempted by the Director of the Office of Government Ethics; members of a uniformed service whose pay grade is at or in excess of O-7 under section 201 of title 37, United States Code; the Postmaster General, the Deputy Postmaster General, Governor of the Board of Governors of the U.S. Postal Service and each officer or employee of the U.S. Postal Service or Postal Rate Commission whose basic rate of pay is equal to or greater than 120% of the minimum rate of basic pay for GS-15; the Director of the Office of Government Ethics and each agency's primary designated agency ethics official; any civilian employee employed in the Executive Office of the President (other than a special Government employee) who holds a commission of appointment from the President; and nominees for positions requiring Senate confirmation. This system includes both former and current employees in these categories who have filed financial disclosure statements under the requirements of the Ethics in Government Act of 1978, as amended, or who otherwise come under the requirements of the Ethics Act. This system also contains information that is necessary for administering all provisions of the Ethics in Government Act of 1978 and the Ethics Reform Act of 1989 (Pub. L. 101-194), as amended, and E.O. 12674 as modified on any current or former officer or employee of the executive branch.

CATEGORIES OF RECORDS IN THE SYSTEM:

This system of records contains: Financial information such as salary, dividends, retirement benefits, interests in property, deposits in a bank and other financial institutions; information on gifts received; information on certain liabilities; information about positions as an officer, director, trustee, general partner, proprietor, representative, employee, or consultant of any corporation, company, firm, partnership, or other business, non-profit organization, labor organization, or educational institution; information about non-Government employment agreements, such as leaves of absence to accept Federal service, continuation of payments by a non-Federal employer; and information about assets placed in trust pending disposal. This system also includes other documents developed or information and material received by the Director of the Office of Government Ethics, or agency ethics officials in administering the Ethics of Government Act of 1978 or the Ethics Reform Act of 1989, as amended, which are retrieved by name or other personal identifier. Such other documents or information may include, but will not be limited to: ethics agreements, documentation of waivers issued to an officer or employee by an agency pursuant to section 208(b)(1) or section 208(b)(3) of title 18, U.S.C.; certificates of divestiture issued by the President or by the Director of OGE pursuant to section 502 of the Ethics Reform Act of 1989; information necessary for the rendering of ethics counseling, advice or formal advisory opinions, or the resolution of complaints; the actual opinions issued; and records of referrals and consultations regarding current and former employee's who are or have been the subject of conflicts of interest or standards of conduct inquiries or determinations, or employees who are alleged to have violated department, agency or Federal ethics statutes, rules, regulations or Executive orders. Such information may include correspondence, documents or material concerning an individual's conduct, reports of investigations with related exhibits, statements, affidavits or other records obtained during an inquiry. These documents may include information related to personal and family financial and other business interests, positions held outside the Government and acceptance of gifts. The records may also contain reports of action taken by the agency, decisions and reports on legal or disciplinary action resulting from any referred administrative action or prosecution.

AUTHORITY FOR MAINTENANCE OF THE SYSTEM:

5 U.S.C. 7301, 7351, 7353; 5 U.S.C. App. (Ethics in Government Act of 1978); 31 U.S.C. 1353; E.O. 12674 (as modified by E.O. 12731).

PURPOSE(S):

All records are maintained in accordance with the requirements of the Ethics in Government Act of 1978 and the Ethics Reform Act of 1989, as amended, and E.O. 12674 as modified. These requirements include the filing of financial status reports, reports concerning certain agreements between the covered individual and any prior private sector employer, ethics agreements, and the preservation of waivers issued to an officer or employee pursuant to section 208 of title 18 and certificates of divestiture issued pursuant to section 502 of the Ethics Reform Act. Such statements and related records are required to assure compliance with these acts and to preserve and promote the integrity of public officials and institutions. The requirements also include the possession or maintenance of information being researched or prepared for referral by ethics officials concerning employees or former employees of the Federal Government who are the subject of complaints of misconduct or alleged violations of ethics laws. These complaints may be referred to the Office of the Inspector General of the agency where the employee is or was employed or to the Department of Justice.

ROUTINE USES OF RECORDS MAINTAINED IN THE SYSTEM, INCLUDING CATEGORIES OF USERS AND THE PURPOSES OF SUCH USES:

These records and information in these records may be used:

a. To disclose the information furnished by the reporting official, in accordance with provisions of section 105 of the Ethics in Government Act of 1978, as amended, to any requesting person.

b. To disclose, in accordance with section 105 of the Ethics in Government Act, as amended, and subject to the limitations contained in section 208(d)(1) of title 18, U.S.C., any determination granting an exemption pursuant to 208(b)(1) or 208(b)(3) of title 18, U.S.C., to any requesting person.

c. To disclose pertinent information to the appropriate Federal, State, or local agency responsible for investigating, prosecuting, enforcing, or implementing a statute, rule, regulation, or order, where OGE becomes aware of an indication of a violation or potential violation of civil or criminal law or regulation.

d. To disclose information to another Federal agency, to a court, or a party in litigation before a court or in an administrative proceeding being conducted by a Federal agency, either when the Government is a party to a judicial or administrative proceeding or in order to comply with a subpoena issued by a judge of a court of competent jurisdiction.

e. To disclose information to any source when necessary to obtain information relevant to a conflict-of-interest investigation or determination.

f. By the National Archives and Records Administration or the General Services Administration in records management inspections conducted under authority of 44 U.S.C. 2904 and 2906.

g. To disclose information to the Office of Management and Budget at any stage in the legislative coordination and clearance process in connection with private relief legislation as set forth in OMB Circular No. A-19.

h. To disclose information to the Department of Justice, or in a proceeding before a court, adjudicative body, or other administrative body before which OGE is authorized to appear, when: OGE; or an employee of OGE in his or her official capacity, or any employee of OGE in his or her individual capacity (where the Department of Justice or OGE has agreed to represent the employee); or the United States (when OGE determines that litigation is likely to affect OGE), is a party to litigation or has an interest in such litigation, and the use of such records by the Department of Justice or OGE is deemed by OGE to be relevant and necessary to the litigation provided, however, that the disclosure is compatible with the purpose for which such records were collected.

i. To disclose the public financial disclosure report and any accompanying documents to reviewing officials in a new office, department or agency when an employee transfers or is detailed from a covered position in one office, department or agency to a covered position in another office, department or agency.

j. To disclose information to a Member of Congress or a congressional office in response to an inquiry made on behalf of an individual who is the subject of the record.

k. To disclose information to contractors, grantees, experts, consultants, detailees, and other non-Government employees performing or working on a contract, service, or other assignment for the Federal Government, when necessary to accomplish an agency function related to this system of records.

Note: When an agency is requested to furnish such records to the Director or other authorized officials of the Office of Government Ethics (OGE), such a disclosure is to be considered as made to those officers and employees of the agency which co-maintains the records who have a need for the records in the performance of their official duties in accordance with the Ethics in Government Act of 1978, 5 U.S.C. app., and other ethics-related laws, Executive orders and regulations conferring pertinent authority on OGE, pursuant to the provision of the Privacy Act at 5 U.S.C. 552a(b)(1).

POLICIES AND PRACTICES FOR STORING, RETRIEVING, ACCESSING, RETAINING, AND DISPOSING OF RECORDS IN THE SYSTEM:

STORAGE:

These records are maintained in paper and/or electronic form.

RETRIEVABILITY:

These records are retrieved by the name or other programmatic identifier assigned to the individual on whom they are maintained.

SAFEGUARDS:

These records are maintained in file cabinets which may be locked or in specified areas to which only authorized personnel have access. Electronic records are protected from unauthorized access through password identification procedures, limited access, firewalls and other system-based protection methods.

RETENTION AND DISPOSAL:

In accordance with the National Archives and Records Administration General Records Schedule for ethics program records, these records are generally retained for a period of six years after filing, or for such other period of time as is provided for in that schedule for certain specified types of ethics records. In cases where records are filed by, or with respect to, a nominee for an appointment requiring confirmation by the Senate when the nominee is not appointed and Presidential and Vice-Presidential candidates who are not elected, the records are generally destroyed one year after the date the individual ceased being under Senate consideration for appointment or is no longer a candidate for office. However, if any records are needed in an ongoing investigation, they will be retained until no longer needed in the investigation. Destruction is by shredding or electronic deletion.

SYSTEM MANAGER(S) AND ADDRESS:

a. For records filed directly with the Office of Government Ethics by non-OGE employees: Deputy Director, Office of Agency Programs, Office of Government Ethics, Suite 500, 1201 New York Avenue, NW., Washington, DC 20005-3917;

b. For records filed with a Designated Agency Ethics Official (DAEO) or the head of a department or agency: The DAEO at the department or agency concerned; and

c. For records filed with the Federal Election Commission (FEC) by candidates for President or Vice President: The General Counsel, Office of General Counsel, Federal Election Commission, 999 E Street, NW., Washington, DC 20463.

NOTIFICATION PROCEDURE:

Individuals wishing to inquire whether this system of records contains information about them should contact, as appropriate:

a. For records filed directly with OGE by non-OGE employees, contact the OGE Deputy Director, Office of Agency Programs, Office of Government Ethics, Suite 500, 1201 New York Avenue, NW., Washington, DC 20005-3917;

b. For records filed with a Designated Agency Ethics Official (DAEO) or the head of a department or agency, contact the DAEO at the department or agency concerned; and

c. For records filed with the FEC by candidates for President or Vice President, contact the FEC General Counsel, Federal Election Commission, 999 E Street, NW., Washington, DC 20463.

Individuals wishing to make such an inquiry must furnish the following information for their records to be located and identified:

a. Full name.

b. Department or agency and component with which employed or proposed to be employed.

c. Dates of employment.

Individuals seeking to determine if a system contains information about them must also follow OGE's Privacy Act regulations regarding verification of identity (5 CFR part 2606).

RECORD ACCESS PROCEDURES:

Individuals wishing to request access to their records should contact the appropriate office as shown in the Notification Procedure section. Individuals must furnish the following information for their records to be located and identified:

a. Full name.

b. Department or agency and component with which employed or proposed to be employed.

c. Dates of employment.

d. Reasonably specify the record content being sought.

Individuals requesting access must also follow OGE's Privacy Act regulations regarding verification of identity and access to records (5 CFR part 2606).

CONTESTING RECORD PROCEDURES:

Since the information in these records is updated on a periodic basis, most record corrections can be handled through established administrative procedures for updating the records. However, individuals can obtain information on the procedures for contesting the records under the provisions of the Privacy Act by contacting the appropriate office shown in the Notification Procedure section.

RECORD SOURCE CATEGORIES:

Information in this system of records is provided by:

a. The subject individual or by a designated person, such as a trustee, attorney, accountant, banker, or relative.

b. Federal officials who review the statements to make conflict of interest determinations.

c. Persons alleging conflict of interests or violations of other ethics laws and persons contacted during any investigation of the allegations.

EXEMPTIONS CLAIMED FOR THE SYSTEM:

None.

OGE/GOVT-2

SYSTEM NAME:

Executive Branch Confidential Financial Disclosure Reports.

SECURITY CLASSIFICATION:

None.

SYSTEM LOCATION:

Individual agency ethics offices or other designated agency offices.

CATEGORIES OF INDIVIDUALS COVERED BY THE SYSTEM:

Officers and employees in the executive branch whose position is classified at GS-15 or below of the General Schedule prescribed by 5 U.S.C. 5332, or the rate of basic pay for which is fixed, other than under the General Schedule, at a rate which is less than 120% of the minimum rate of basic pay for GS-15 of the General Schedule; officers or employees of the United States Postal Service or Postal Rate Commission whose basic rate of pay is less than 120% of the minimum rate of basic pay for GS-15 of the General Schedule; members of a uniformed service whose pay grade is less than O-7 under 37 U.S.C. 201; and officers or employees in any other position determined by the Designated Agency Ethics Official to be of equal classification. In addition, all executive branch special Government employees as defined in 18 U.S.C. 202(a) and 5 CFR 2634.105(s) are required to file unless they are required to file public financial disclosure reports or their position has been excluded from filing. The system includes both current and former Federal employees in these categories.

CATEGORIES OF RECORDS IN THE SYSTEM:

These records contain statements and amended statements of personal and family holdings and other interests in property; income; gifts and reimbursements; liabilities; agreements and arrangements; outside positions; and other information related to conflict of interest determinations. These statements may be certifications of no new interests for the reporting period, and may be agency supplemental or alternative confidential report forms.

AUTHORITY FOR MAINTENANCE OF THE SYSTEM:

5 U.S.C. App. (Ethics in Government Act of 1978); E.O. 12674 (as modified by E.O. 12731).

PURPOSE(S):

These records are maintained to meet the requirements of or under Executive Orders 12674 as modified, 5 CFR part 2634, agency regulations thereunder, as well as section 107 of the Ethics in Government Act of 1978, as amended, concerning the filing of confidential financial disclosure reports. Such reports are required to assure compliance with ethics laws and regulations, and to determine if an actual or apparent conflict of interest exists between the employment of individuals by the Federal Government and their outside employment and financial interests.

ROUTINE USES OF RECORDS MAINTAINED IN THE SYSTEM, INCLUDING CATEGORIES OF USERS AND THE PURPOSES OF SUCH USES:

These confidential records and the information contained therein may be used:

a. To disclose pertinent information to the appropriate Federal, State, or local agency responsible for investigating, prosecuting, enforcing, or implementing a statute, rule, regulation, or order, where OGE becomes aware of an indication of a violation or potential violation of civil or criminal law or regulation.

b. To disclose information to another Federal agency, to a court, or a party in litigation before a court or in an administrative proceeding being conducted by a Federal agency, either when the Government is party to a judicial or administrative proceeding or in order to comply with a subpoena issued by a judge of a court of competent jurisdiction.

c. To disclose information to any source when necessary to obtain information relevant to a conflict-of-interest investigation or determination.

d. To the National Archives and Records Administration or the General Services Administration in records management inspections conducted under authority of 44 U.S.C. 2904 and 2906.

e. To disclose information to the Office of Management and Budget at any stage in the legislative coordination and clearance process in connection with private relief legislation as set forth in OMB Circular No. A-19.

f. To disclose information to the Department of Justice, or in a proceeding before a court, adjudicative body, or other administrative body before which OGE is authorized to appear, when: OGE; or an employee of OGE in his or her official capacity, or any employee of OGE in his or her individual capacity (where the Department of Justice or OGE has agreed to represent the employee); or the United States (when OGE determines that litigation is likely to affect OGE), is a party to litigation or has an interest in such litigation, and the use of such records by the Department of Justice or OGE is deemed by OGE to be relevant and necessary to the litigation provided, however, that the disclosure is compatible with the purpose for which such records were collected.

g. To disclose the confidential financial disclosure report or certificate of no new interests and any accompanying documents to reviewing officials in a new office, department or agency when an employee transfers or is detailed from a covered position in one office, department or agency to a covered position in another office, department or agency.

h. To disclose information to a Member of Congress or a congressional office in response to an inquiry made on behalf of an individual who is the subject of the record.

i. To disclose information to contractors, grantees, experts, consultants, detailees, and other non-Government employees performing or working on a contract, service, or other assignment for the Federal Government, when necessary to accomplish an agency function related to this system of records.

Note: When an agency is requested to furnish such records to the Director or other authorized officials of the Office of Government Ethics (OGE), such a disclosure is to be considered as made to those officers and employees of the agency which co-maintains the records who have a need for the records in the performance of their official duties in accordance with the Ethics in Government Act of 1978, 5 U.S.C. app., and other ethics-related laws Executive orders and regulations conferring pertinent authority on OGE, pursuant to the provision of the Privacy Act at 5 U.S.C. 552a(b)(1).

POLICIES AND PRACTICES FOR STORING, RETRIEVING, ACCESSING, RETAINING, AND DISPOSING OF RECORDS IN THE SYSTEM:

STORAGE:

These records are maintained in paper and/or electronic form.

RETRIEVABILITY:

These records are retrieved by the name or other programmatic identifier assigned to the individual on whom they are maintained.

SAFEGUARDS:

These records are located in locked file storage areas or in specified areas to which only authorized personnel have access. Electronic records are protected from unauthorized access through password identification procedures, limited access, firewalls, and other system-based protection methods.

RETENTION AND DISPOSAL:

In accordance with the National Archives and Records Administration General Records Schedule for such ethics program records, these records generally are retained for six years after filing, except when filed by or with respect to a nominee for an appointment requiring confirmation by the Senate when the nominee is not appointed. In such cases, the records are generally destroyed one year after the date the individual ceased being under Senate consideration for appointment. However, if any records are needed in an ongoing investigation, they will be retained until no longer needed in the investigation. Destruction is by shredding or electronic deletion.

SYSTEM MANAGER(S) AND ADDRESS:

a. For records filed directly with the Office of Government Ethics by non-OGE employees: Deputy Director, Office of Agency Programs, Office of Government Ethics, Suite 500, 1201 New York Avenue, NW., Washington, DC 20005-3917; and

b. For records filed with a Designated Agency Ethics Official (DAEO) or the head of a department or agency: The DAEO at the department or agency concerned.

NOTIFICATION PROCEDURE:

Individuals wishing to inquire whether this system of records contains information about them should contact, as appropriate:

a. For records filed directly with OGE by non-OGE employees, contact the OGE Deputy Director, Office of Agency Programs, Office of Government Ethics, Suite 500, 1201 New York Avenue, NW., Washington, DC 20005-3917; or

b. For records filed with a Designated Agency Ethics Official (DAEO) or the head of a department or agency, contact the DAEO at the department or agency concerned.

Individuals wishing to make such an inquiry must furnish the following information for their records to be located and identified:

a. Full name.

b. Department or agency and component with which employed or proposed to be employed.

c. Dates of employment.

Individuals seeking to determine if a system contains information about them must also follow OGE's Privacy Act regulations regarding verification of identity (5 CFR part 2606).

RECORD ACCESS PROCEDURES:

Individuals wishing to request access to their records should contact the Designated Agency Ethics Official or designee at the agency where the reports were filed. Individuals must furnish the following information for their records to be located and identified:

a. Full name.

b. Department or agency and component with which employed or proposed to be employed.

c. Dates of employment.

d. Reasonably specify the record content being sought.

Individuals requesting access must also follow OGE's Privacy Act regulations regarding verification of identity and access to records (5 CFR part 2606).

CONTESTING RECORD PROCEDURES:

Since the information in these records is updated on a periodic basis, most record corrections can be handled through established administrative procedures for updating records. However, individuals can obtain information on the procedures for contesting the records under the provisions of the Privacy Act by contacting the Designated Agency Ethics Official or designee at the agency where the reports were filed.

RECORD SOURCE CATEGORIES:

Information in this system of records is provided by:

a. The subject individual or by a designated person such as a trustee, attorney, accountant, banker, or relative.

b. Federal officials who review the statements to make conflict of interest determinations.

c. Persons alleging conflicts of interests or other violations of ethics laws and persons contacted during any investigation of the allegations.

EXEMPTIONS CLAIMED FOR THE SYSTEM:

None.

OGE/INTERNAL-1

SYSTEM NAME:

Pay, Leave and Travel Records.

SYSTEM LOCATION:

Office of Administration and Information Management, Office of Government Ethics, Suite 500, 1201 New York Avenue, NW., Washington, DC 20005-3917.

CATEGORIES OF INDIVIDUALS COVERED BY THE SYSTEM:

Current and former employees of the Office of Government Ethics.

CATEGORIES OF RECORDS IN THE SYSTEM:

This system contains various records relating to pay, leave, and travel. This includes information such as: Name; date of birth; social security number; home address; grade; employing organization; timekeeper number; salary; pay plan; number of hours worked; leave accrual rate, usage, and balances; Civil Service Retirement and Federal Retirement System contributions; FICA withholdings; Federal, state, and local tax withholdings; Federal Employee's Group Life Insurance withholdings; Federal Employee's Health Benefits withholdings; charitable deductions; allotments; garnishment documents; travel expenses; and information on the leave transfer program and fare subsidy program.

AUTHORITY FOR MAINTENANCE OF THE SYSTEM:

5 U.S.C. 5501, 5525; 5 U.S.C. App. (Ethics in Government Act of 1978); 44 U.S.C. 3101, 3102.

PURPOSE(S):

These records are used to administer the pay, leave, and travel requirements of the Office of Government Ethics and in the administration of the transit fare subsidy program.

ROUTINE USES OF RECORDS MAINTAINED IN THE SYSTEM, INCLUDING CATEGORIES OF USERS AND THE PURPOSES OF SUCH USES:

These records and information contained therein may be used:

a. To disclose pertinent information to the appropriate Federal, State, or local agency responsible for investigating, prosecuting, enforcing, or implementing a statute, rule, regulation, or order, where OGE becomes aware of an indication of a violation or potential violation of civil or criminal law or regulation.

b. To disclose information to another Federal agency, to a court, or a party in litigation before a court or in an administrative proceeding being conducted by a Federal agency, either when the Government is a party to a judicial or administrative proceeding or in order to comply with a subpoena issued by a judge of a court of competent jurisdiction.

c. To disclose information to the National Archives and Records Administration or the General Services Administration in records management inspections conducted under authority of 44 U.S.C. 2904 and 2906.

d. To disclose information to the Office of Management and Budget at any stage in the legislative coordination and clearance process in connection with private relief legislation as set forth in OMB Circular No. A-19.

e. To disclose information to the Department of Justice, or in a proceeding before a court, adjudicative body, or other administrative body before which OGE is authorized to appear, when: OGE; or an employee of OGE in his or her official capacity, or any employee of OGE in his or her individual capacity (where the Department of Justice or OGE has agreed to represent the employee); or the United States (when OGE determines that litigation is likely to affect OGE), is a party to litigation or has an interest in such litigation, and the use of such records by the Department of Justice or OGE is deemed by OGE to be relevant and necessary to the litigation provided, however, that the disclosure is compatible with the purpose for which such records were collected.

f. To disclose information to a Member of Congress or a congressional office in response to an inquiry made on behalf of an individual who is the subject of the record.

g. To disclose information to contractors, grantees, experts, consultants, detailees, and other non-OGE employees performing or working on a contract, service, or other assignment for the Federal Government, when necessary to accomplish an agency function related to this system of records.

h. To disclose information to the Department of Labor in connection with a claim filed by an employee for compensation due to a job-connected injury or illness.

i. To disclose information to the Social Security Administration (SSA) and the Department of the Treasury as required in accordance with their authorized functions, including Federal Insurance Collections Act withholding and benefits for the SSA and the issuance of paychecks and savings bonds for the Treasury.

j. To disclose information to State offices of unemployment compensation.

k. To disclose information to Federal Employees Group Life Insurance or Health Benefits carriers in connection with survivor annuity or health benefits claims or records reconciliations.

l. To disclose information to the Internal Revenue Service and State and local tax authorities.

m. To disclose information to any source from which additional information is requested relevant to an OGE determination concerning an individual's pay, leave, or travel expenses, to the extent necessary to identify the individual, inform the source of the purpose(s) of the request, and to identify the type of information requested.

n. To disclose information to a Federal agency, in response to its request in connection with the hiring or retention of an employee, the issuance of a security clearance, the conducting of a suitability or security investigation of an individual, the letting of a contract, or the issuance of a license, grant, or other benefit by the requesting agency, to the extent that the information is relevant and necessary to the requesting agency's decision on the matter.

o. To disclose information to the authorized employees of another Federal agency that provides the Office of Government Ethics with manual and automated assistance in processing pay, leave, and travel.

p. To disclose information to officials of the Office of Special Counsel, Office of Personnel Management, Federal Labor Relations Authority, Merit Systems Protection Board or the Equal Employment Opportunity Commission when requested in the performance of their authorized duties, including respectively in connection with cases and appeals, special studies of the civil service and other merit systems, review of personnel matters and practices, investigations of alleged or possible prohibited personnel and discrimination practices, Hatch Act matters, whistleblower protections, compliance with employee selection procedures and investigations of allegations of unfair labor practices or matters before the Federal Service Impasses Panel.

q. To disclose information in compliance with orders, interrogatories, and other information requests relevant to garnishment orders that OGE is required to comply with in accordance with 42 U.S.C. 659 (support garnishment) and 5 U.S.C. 5520a (commercial garnishment) to a court of competent jurisdiction, an authorized official, or to an authorized State agency as defined in 5 CFR parts 581 and 582.

r. To provide information to officials of labor organizations recognized under 5 U.S.C. chapter 71 when relevant and necessary to their duties of exclusive representation concerning personnel policies, practices, and matters affecting working conditions.

s. To disclose the names, social security numbers, home addresses, date of birth, date of hire, quarterly earnings, employer identifying information, and State of hire of employees to the Office of Child Support Enforcement, Administration for Children and Families, Department of Health and Human Services for the purposes of locating individuals to establish paternity, establishing and modifying orders of child support, identifying sources of income, and for other child support enforcement actions as required by the Personal Responsibility and Work Opportunity Reconciliation Act, Pub. L. 104-193, as amended.

POLICIES AND PRACTICES FOR STORING, RETRIEVING, ACCESSING, RETAINING, AND DISPOSING OF RECORDS IN THE SYSTEM:

STORAGE:

These records are maintained in paper and/or electronic form.

RETRIEVABILITY:

These records are retrieved by the name, social security number, or other identifier assigned to the individual on whom they are maintained.

SAFEGUARDS:

Paper records are maintained in locked file storage areas or in specified areas to which only authorized personnel have access. Electronic records are protected from unauthorized access through password identification procedures, limited access, firewalls, and other system-based protection methods.

RETENTION AND DISPOSAL:

These records are retained for varying periods of time in accordance with the National Archives and Records Administration General Records Schedule 2 (Payrolling and Pay Administration Records) and 9 (Travel and Transportation Records). Disposal of paper records is by shredding, and of electronic records by deletion.

SYSTEM MANAGER(S) AND ADDRESS:

Deputy Director, Office of Administration and Information Management, Office of Government Ethics, Suite 500, 1201 New York Avenue, NW., Washington, DC 20005-3917.

NOTIFICATION PROCEDURE:

Individuals wishing to inquire whether this system of records contains information about them should contact the Deputy Director, Office of Administration and Information Management, Office of Government Ethics.

Individuals wishing to make such an inquiry must furnish the following information for their records to be located and identified:

a. Full name.

b. Social Security Number.

c. Dates of employment.

Individuals seeking to determine if a system contains information about them must also follow OGE's Privacy Act regulations regarding verification of identity (5 CFR part 2606).

RECORD ACCESS PROCEDURES:

Individuals wishing to request access to their records should contact the Deputy Director, Office of Administration and Information Management, Office of Government Ethics. Individuals must furnish the following information for their records to be located and identified:

a. Full name.

b. Social Security Number.

c. Dates of employment.

Individuals requesting access must also follow OGE's Privacy Act regulations regarding verification of identity and access to records (5 CFR part 2606).

CONTESTING RECORD PROCEDURES:

Individuals wishing to request amendment of records about them should contact the System Manager. Individuals must furnish the following information for their records to be located and identified:

a. Full name.

b. Social Security Number.

c. Dates of employment.

Individuals requesting amendment must also follow OGE's Privacy Act regulations regarding verification of identity and amendment of records (5 CFR part 2606).

RECORD SOURCE CATEGORIES:

Information in this system of records is obtained from:

a. The individual to whom the record pertains.

b. Office of Government Ethics officials responsible for pay, leave, and travel requirements.

c. Other official personnel documents of the Office of Government Ethics.

EXEMPTIONS CLAIMED FOR THE SYSTEM:

None.

OGE/INTERNAL-2

SYSTEM NAME:

Telephone Call Detail Records.

SYSTEM LOCATION:

Office of Administration and Information Management, Office of Government Ethics, Suite 500, 1201 New York Avenue, NW., Washington, DC 20005-3917.

CATEGORIES OF INDIVIDUALS COVERED BY THE SYSTEM:

OGE employees who are assigned OGE telephone extension numbers, persons performing services on behalf of OGE or are authorized to use OGE telephone services, and persons who make or receive telephone calls charged to the Office of Government Ethics.

AUTHORITY FOR MAINTENANCE OF THE SYSTEM:

5 U.S.C. App. (Ethics in Government Act of 1978); 44 U.S.C. 3101.

PURPOSE(S):

These records are used to verify telephone usage and to resolve billing discrepancies. The records may also be used to allocate the costs of telephone services to OGE's various offices, to identify unofficial telephone calls and as a basis for taking action when OGE employees or other persons misuse or abuse OGE telephone services.

ROUTINE USES OF RECORDS MAINTAINED IN THE SYSTEM, INCLUDING CATEGORIES OF USERS AND THE PURPOSES OF SUCH USES:

These records and the information contained therein may be used:

a. To disclose pertinent information to the appropriate Federal, State, or local agency responsible for investigating, prosecuting, enforcing, or implementing a statute, rule, regulation, or order, where OGE becomes aware of an indication of a violation or potential violation of civil or criminal law or regulation.

b. To disclose information to another Federal agency, to a court, or a party in litigation before a court or in an administrative proceeding being conducted by a Federal agency, either when the Government is a party to a judicial or administrative proceeding or in order to comply with a subpoena issued by a judge of a court of competent jurisdiction.

c. To disclose information to the National Archives and Records Administration or the General Services Administration in records management inspections conducted under authority of 44 U.S.C. 2904 and 2906.

d. To disclose information to the Office of Management and Budget at any stage in the legislative coordination and clearance process in connection with private relief legislation as set forth in OMB Circular No. A-19.

e. To disclose information to the Department of Justice, or in a proceeding before a court, adjudicative body, or other administrative body before which OGE is authorized to appear, when: OGE; or an employee of OGE in his or her official capacity, or any employee of OGE in his or her individual capacity (where the Department of Justice or OGE has agreed to represent the employee); or the United States (when OGE determines that litigation is likely to affect OGE), is a party to litigation or has an interest in such litigation, and the use of such records by the Department of Justice or OGE is deemed by OGE to be relevant and necessary to the litigation provided, however, that the disclosure is compatible with the purpose for which such records were collected.

f. To disclose information to a Member of Congress or a congressional office in response to an inquiry made on behalf of an individual who is the subject of the record.

g. To disclose information to contractors, grantees, experts, consultants, detailees, and other non-OGE employees performing or working on a contract, service, or other assignment for the Federal Government, when necessary to accomplish an agency function related to this system of records.

h. To disclose information to OGE employees or other persons to determine their individual responsibility for telephone calls.

i. To disclose information to a telecommunications company or another Federal agency providing telephone services or telecommunications services to permit servicing the account;

j. To disclose information in response to a Federal agency's request made in connection with the hiring or retention of an employee, the letting of a contract or issuance of a grant, license or other benefit by the requesting agency, but only to the extent that the information disclosed is relevant and necessary to the requesting agency's decision on the matter.

k. To provide information to officials of labor organizations recognized under 5 U.S.C. chapter 71 when relevant and necessary to their duties of exclusive representation concerning personnel policies, practices, and matters affecting working conditions.

DISCLOSURE TO CONSUMER REPORTING AGENCIES:

Disclosures may be made from this system, pursuant to 5 U.S.C. 552a(b)(12), to “consumer reporting agencies” as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

These records are maintained in paper and/or electronic form.

RETRIEVABILITY:

These records are retrieved by name, telephone extension number or some other identifier assigned to the individual on whom they are maintained.

SAFEGUARDS:

Paper records are maintained in file cabinets that may be locked or in specified areas to which only authorized personnel have access. Automated records are protected from unauthorized access through password identification procedures, limited access, firewalls, and other system-based protection methods.

RETENTION AND DISPOSAL:

These records are retained and disposed of in accordance with the National Archives and Records Administration General Records Schedule 12. Disposal of manual records is by shredding, and disposal of electronic records is by deletion.

SYSTEM MANAGER(S) AND ADDRESS:

Deputy Director, Office of Administration and Information Management, Office of Government Ethics, Suite 500, 1201 New York Avenue, NW., Washington, DC 20005-3917.

NOTIFICATION PROCEDURE:

Individuals wishing to inquire whether this system of records contains information about them should contact, the Deputy Director, Office of Administration and Information Management, Office of Government Ethics.

Individuals wishing to make such an inquiry must furnish the following information for their records to be located and identified:

a. Full name.

b. Telephone extension number assigned to the individual by OGE.

c. Description of information being sought, including the time frame of information being sought.

Individuals seeking to determine if a system contains information about them must also follow OGE's Privacy Act regulations regarding verification of identity (5 CFR part 2606).

RECORD ACCESS PROCEDURES:

Individuals wishing to request access to their records should contact the Deputy Director, Administration and Information Management, Office of Government Ethics. Individuals must furnish the following information for their records to be located and identified:

a. Full name.

b. Telephone extension number assigned to the individual by OGE.

c. Description of information being sought, including the time frame of information being sought.

Individuals requesting access must also follow OGE's Privacy Act regulations regarding verification of identity and access to records (5 CFR part 2606).

CONTESTING RECORD PROCEDURES:

Individuals wishing to request amendment of records about them should contact the System Manager. Individuals must furnish the following information for their records to be located and identified:

a. Full name.

b. Telephone extension number assigned to the individual by OGE.

c. Description of information to be amended, including the time frame of information being sought.

Individuals requesting amendment of records must also follow OGE's Privacy Act regulations regarding verification of identity and amendment of records (5 CFR part 2606).

RECORD SOURCE CATEGORIES:

Information in this system of records is obtained from:

a. The individual on whom the record is maintained.

b. OGE telephone assignment records.

c. Call Detail Reports or telephone bills provided by suppliers of telephone services.

d. Results of administrative inquiries relating to assignment of responsibility for placement of specific long-distance or local calls.

EXEMPTIONS CLAIMED FOR THE SYSTEM:

None.

OGE/INTERNAL-3

SYSTEM NAME:

Grievance Records.

SYSTEM LOCATION:

Office of Administration and Information Management, Office of Government Ethics, Suite 500, 1201 New York Avenue, NW., Washington, DC 20005-3917.

CATEGORIES OF INDIVIDUALS COVERED BY THE SYSTEM:

Current or former OGE employees who have filed grievances under OGE's administrative grievance procedures or under a negotiated grievance procedure.

CATEGORIES OF RECORDS IN THE SYSTEM:

The system contains records relating to grievances filed by OGE employees under administrative procedures authorized by 5 CFR part 771, and records of negotiated grievance and arbitration systems that OGE has or may establish through negotiations with recognized labor organizations in accordance with 5 U.S.C. 7121. These files contain all documents related to the grievance which may include statements of witnesses, reports of interviews and hearings, examiner's findings and recommendations, a copy of the original decision, and related correspondence and exhibits, employment history, arbitrator's decision or report, record of appeal to the Federal Labor Relations Authority, and a variety of employment and personnel records associated with the grievance.

AUTHORITY FOR MAINTENANCE OF THE SYSTEM:

5 U.S.C. App. (Ethics in Government Act of 1978); 5 U.S.C. 7121; 5 CFR part 771.

PURPOSE(S):

These records are used to process grievances submitted by OGE employees for personal relief in a matter of concern or dissatisfaction.

ROUTINE USES OF RECORDS MAINTAINED IN THE SYSTEM, INCLUDING CATEGORIES OF USERS AND THE PURPOSES OF SUCH USES:

These records and the information contained therein may be used:

a. To disclose pertinent information to the appropriate Federal, State, or local agency responsible for investigating, prosecuting, enforcing, or implementing a statute, rule, regulation, or order, where OGE becomes aware of an indication of a violation or potential violation of civil or criminal law or regulation.

b. To disclose information to a court, or a party in litigation before a court or in an administrative proceeding being conducted by a Federal agency, either when the Government is a party to a judicial or administrative proceeding or in order to comply with a subpoena issued by a judge of a court of competent jurisdiction.

c. To disclose information by the National Archives and Records Administration or the General Services Administration in records management inspections conducted under authority of 44 U.S.C. 2904 and 2906.

d. To disclose information to the Office of Management and Budget at any stage in the legislative coordination and clearance process in connection with private relief legislation as set forth in OMB Circular No. A-19.

e. To disclose information to the Department of Justice, or in a proceeding before a court, adjudicative body, or other administrative body before which OGE is authorized to appear, when: OGE; or an employee of OGE in his or her official capacity, or any employee of OGE in his or her individual capacity (where the Department of Justice or OGE has agreed to represent the employee); or the United States (when OGE determines that litigation is likely to affect OGE), is a party to litigation or has an interest in such litigation, and the use of such records by the Department of Justice or OGE is deemed by OGE to be relevant and necessary to the litigation provided, however, that the disclosure is compatible with the purpose for which such records were collected.

f. To disclose information to a Member of Congress or a congressional office in response to an inquiry made on behalf of an individual who is the subject of the record.

g. To disclose information to contractors, grantees, experts, consultants, detailees, and other non-OGE employees performing or working on a contract, service, or other assignment for the Federal Government, when necessary to accomplish an agency function related to this system of records.

h. To disclose information to any source from which additional information is required in the course of processing a grievance, to the extent necessary to identify the individual, inform the source of the purpose(s) of the request, and identify the type of information requested.

i. To disclose information to a Federal agency in response to its request in connection with the hiring or retention of an employee, the issuance of a security clearance, the conducting of a security or suitability investigation of an individual, the letting of a contract, or the issuance of a license, grant, or other benefit by the requesting agency, to the extent that the information is relevant and necessary to requesting the agency's decision on the matter.

j. To disclose information to officials of the Merit Systems Protection Board; the Office of Special Counsel; the Federal Labor Relations Authority; or the Equal Employment Opportunity Commission when requested in performance of their authorized duties, including respectively in connection with cases and appeals, special studies of the civil service and other merit systems, review of personnel matters and practices, investigations of alleged or possible prohibited personnel and discrimination practices, Hatch Act matters, whistleblower protections, compliance with employee selection procedures and investigations of allegations of unfair labor practices or matters before the Federal Service Impasses Panel.

k. To provide information to officials of labor organizations recognized under 5 U.S.C. chapter 71 when relevant and necessary to their duties of exclusive representation concerning personnel policies, practices, and matters affecting working conditions.

l. To provide information to the Department of Labor in carrying out its functions regarding labor-management relations in the Federal service.

POLICIES AND PRACTICES FOR STORING, RETRIEVING, RETAINING AND DISPOSING OF RECORDS IN THE SYSTEM:

STORAGE:

These records are maintained in paper and/or electronic form.

RETRIEVABILITY:

These records are retrieved by the names of the individuals on whom they are maintained.

SAFEGUARDS:

Paper records are maintained in locked file storage areas or in specified areas to which only authorized personnel have access. Electronic records are protected from unauthorized access through password identification procedures, limited access, firewalls, and other system-based protection methods.

RETENTION AND DISPOSAL:

These records are retained for four years after closing of the case (or as otherwise agreed upon through the collective bargaining process), then disposed of. Disposal of paper records is by shredding, and disposal of electronic records is by deletion.

SYSTEM MANAGER(S) AND ADDRESS:

Deputy Director, Office of Administration and Information Management, Office of Government Ethics, Suite 500, 1201 New York Avenue, NW., Washington, DC 20005-3917.

NOTIFICATION PROCEDURE:

Individuals may contact the Deputy Director, Office of Administration and Information Management, Office of Government Ethics regarding the existence of grievance records on them. They must furnish the following information for their records to be located and identified:

a. Name.

b. Approximate date of closing of the case and kind of action taken.

c. Organizational component involved.

RECORD ACCESS PROCEDURE:

An individual may request access to the official copy of the grievance file by contacting the Deputy Director, Office of Administration and Information Management, Office of Government Ethics. Individuals must furnish the following information for their records to be located and identified:

a. Name.

b. Approximate date of closing of the case and kind of action taken.

c. Organizational component involved.

Individuals requesting access must also follow OGE's Privacy Act regulations regarding verification of identity and access to records (5 CFR part 2606).

CONTESTING RECORD PROCEDURE:

Review of requests from individuals seeking amendment of their records which have been the subject of an administrative, judicial, or quasi-judicial action will be limited in scope. Review of amendment requests of these records will be restricted to determining if the record accurately documents the ruling on the case, and will not include a review of the merits of the action, determination, or finding. Individuals wishing to request amendment of their records to correct factual errors should contact the OGE Office of Administration and Information Management. Individuals must furnish the following information for their records to be located and identified:

a. Name.

b. Approximate date of closing of the case and kind of action taken.

c. Organizational component involved.

Individuals requesting amendment must also follow OGE's Privacy Act regulations regarding verification of identity and amendment of records (5 CFR part 2606).

RECORD SOURCE CATEGORIES:

Information in this system of records is obtained from:

a. The individual on whom the record is maintained.

b. Testimony of witnesses.

c. OGE officials.

d. Related correspondence from organizations or persons.

e. Union officials (if information deals with a negotiated grievance matter).

f. Department of Labor, Federal Labor Relations Authority, or arbitrators involved in the grievance (if information deals with a negotiated grievance matter).

EXEMPTIONS CLAIMED FOR THE SYSTEM:

None.

OGE/INTERNAL-4

SYSTEM NAME:

Computer Systems Activity and Access Records.

SYSTEM LOCATION:

Office of Administration and Information Management, Office of Government Ethics, Suite 500, 1201 New York Avenue, NW., Washington, DC 20005-3917.

CATEGORIES OF INDIVIDUALS COVERED BY THE SYSTEM:

Individuals who access OGE network computers or mainframe/enterprise servers, including individuals who send and receive electronic communications, access Internet sites, or access system databases, files, or applications from OGE computers or who send electronic communications to OGE computers; and individuals attempting to access OGE computers or systems without authorization.

CATEGORIES OF RECORDS IN THE SYSTEM:

Records in this system of records may include: Records on the use of the interoffice and Internet e-mail systems, including the e-mail address of the sender and receiver of the e-mail message, subject, date, and time; records on user access to OGE's office automation networks; records relating to verification or authorization of an individual's access to systems, files, or applications, such as user IDs, user names, title, and agency.

AUTHORITY FOR MAINTENANCE OF THE SYSTEM:

5 U.S.C. App. (Ethics in Government Act of 1978); 40 U.S.C. 1441 note.

PURPOSE(S):

The data in this system of records is used by OGE systems and security personnel, or persons authorized to assist these personnel, to plan and manage system services, to monitor for improper use, and to otherwise perform their official duties.

ROUTINE USES OF RECORDS MAINTAINED IN THE SYSTEM, INCLUDING CATEGORIES OF USERS AND THE PURPOSES OF SUCH USES:

These records and the information contained therein may be used:

a. To disclose pertinent information to the appropriate Federal, State, or local agency responsible for investigating, prosecuting, enforcing, or implementing a statute, rule, regulation, or order, where OGE becomes aware of an indication of a violation or potential violation of civil or criminal law or regulation.

b. To disclose information to another Federal agency, to a court, or a party in litigation before a court or in an administrative proceeding being conducted by a Federal agency, either when the Government is a party to a judicial or administrative proceeding or in order to comply a subpoena issued by a judge of a court of competent jurisdiction.

c. To disclose information to the National Archives and Records Administration or the General Services Administration in records management inspections conducted under authority of 44 U.S.C. 2904 and 2906.

d. To disclose information to the Office of Management and Budget at any stage in the legislative coordination and clearance process in connection with private relief legislation as set forth in OMB Circular No. A-19.

e. To disclose information to the Department of Justice, or in a proceeding before a court, adjudicative body, or other administrative body before which OGE is authorized to appear, when: OGE; or an employee of OGE in his or her official capacity, or any employee of OGE in his or her individual capacity (where the Department of Justice or OGE has agreed to represent the employee); or the United States (when OGE determines that litigation is likely to affect OGE), is a party to litigation or has an interest in such litigation, and the use of such records by the Department of Justice or OGE is deemed by OGE to be relevant and necessary to the litigation provided, however, that the disclosure is compatible with the purpose for which such records were collected.

f. To disclose information to contractors, grantees, experts, consultants, detailees, and other non-OGE employees performing or working on a contract, service, or other assignment for the Federal Government, when necessary to accomplish an agency function related to this system of records.

g. To disclose information to a Member of Congress or a congressional office in response to an inquiry made on behalf of an individual who is the subject of the record.

h. To disclose information to a Federal, State, local, tribal or foreign agency, or a private contractor, in response to its request in connection with the hiring or retention of any employee, the issuance of a security clearance, the conduct of a security or suitability investigation, the reporting of an investigation on an employee, the letting of a contract, or the issuance of a grant, license, or other benefit to an employee by the agency, but only to the extent that the information disclosed is relevant and necessary to the agency's decision on the matter.

i. To provide information to officials of labor organizations recognized under 5 U.S.C. chapter 71 when relevant and necessary to their duties of exclusive representation concerning personnel policies, practices, and matters affecting working conditions.

POLICIES AND PRACTICES FOR STORING, RETRIEVING, ACCESSING, RETAINING, AND DISPOSING OF RECORDS IN THE SYSTEM:

STORAGE:

These records are maintained in paper and/or electronic form.

RETRIEVABILITY:

These records may be retrieved by user name, user ID, e-mail address, or other identifying search term employed, depending on the record category.

SAFEGUARDS:

These records are located in locked storage areas with controlled entry, or automated systems to which only authorized personnel have access. The use of password protection identification features and other automated data processing system protection methods also restrict access.

RETENTION AND DISPOSAL:

In accordance with General Records Schedule 20, records of verification, authorization, computer system access, and other activities generated by the system are retained for one year, unless required for management review, then deleted.

SYSTEM MANAGER(S) AND ADDRESS:

Deputy Director, Office of Administration and Information Management, Office of Government Ethics, Suite 500, 1201 New York Avenue, NW., Washington, DC 20005-3917.

NOTIFICATION PROCEDURE:

Individuals wishing to inquire whether this system of records contains information about them should contact the Deputy Director, Office of Administration and Information Management, Office of Government Ethics.

Individuals wishing to make such an inquiry must furnish the following information for their records to be located and identified:

a. Full name.

b. Assigned computer location.

c. Description of information to be sought (including the time frame during which the record(s) may have been generated).

Individuals seeking to determine if a system contains information about them must also follow OGE's Privacy Act regulations regarding verification of identity (5 CFR part 2606).

RECORD ACCESS PROCEDURES:

Individuals wishing to request access to their records should contact the Deputy Director, Office of Administration and Information Management, Office of Government Ethics. Individuals must furnish the following information for their records to be located and identified:

a. Full name.

b. Assigned computer location.

c. Description of information being sought (including the time frame during which the record(s) may have been generated).

Individuals requesting access must also follow OGE's Privacy Act regulations regarding verification of identity and access to records (5 CFR part 2606).

CONTESTING RECORD PROCEDURES:

Individuals wishing to request amendment of records about them should contact the System Manager. Individuals must furnish the following information for their records to be located and identified:

a. Full name.

b. Assigned computer location.

c. Description of information to be amended (including the time frame during which the record(s) may have been generated).

Individuals requesting amendment must also follow OGE's Privacy Act regulations regarding verification of identity and amendment of records (5 CFR part 2606).

RECORD SOURCE CATEGORIES:

Information in this system of records is obtained from:

a. Individuals covered by the system.

b. Office of Government Ethics management officials.

c. Computer activity logs and tracking systems.

EXEMPTIONS CLAIMED FOR THE SYSTEM:

None.

OGE/INTERNAL-5

SYSTEM NAME:

Employee Locator and Emergency Notification Records.

SYSTEM LOCATION:

Office of Administration and Information Management, Office of Government Ethics, Suite 500, 1201 New York Avenue, NW., Washington, DC 20005-3917.

CATEGORIES OF INDIVIDUALS COVERED BY THE SYSTEM:

Current employees of the Office of Government Ethics.

CATEGORIES OF RECORDS IN THE SYSTEM:

This system contains information regarding the organizational location and telephone extension of individual OGE employees. The system also contains the home address and telephone number of the employee and the name, relationship, and telephone number of an individual or individuals to contact in the event of a medical or other emergency involving the employee. The system contains an additional freeform “note” field for personal medical information for employees who choose to voluntarily complete it.

AUTHORITY FOR MAINTENANCE OF THE SYSTEM:

5 U.S.C. App. (Ethics in Government Act of 1978).

PURPOSE(S):

Information is collected for this system in order to identify an individual for OGE officials to contact, should an emergency of a medical or other nature involving the employee occur while the employee is on the job. Also, these records may be used by authorized OGE personnel to contact individuals working from home or at an authorized alternative worksite or, on infrequent occasions, to contact individuals absent from work about work-related issues.

ROUTINE USES OF RECORDS MAINTAINED IN THE SYSTEM, INCLUDING CATEGORIES OF USERS AND THE PURPOSES OF SUCH USES:

These records and the information contained therein may be used:

a. To disclose information to another Federal agency, to a court, or a party in litigation before a court or in an administrative proceeding being conducted by a Federal agency, either when the Government is a party to a judicial or administrative proceeding or in order to comply with a subpoena issued by a judge of a court of competent jurisdiction.

b. To provide information to officials of labor organizations recognized under 5 U.S.C. chapter 71 when relevant and necessary to their duties of exclusive representation concerning personnel policies, practices, and matters affecting working conditions.

POLICIES AND PRACTICES FOR STORING, RETRIEVING, RETAINING AND DISPOSING OF RECORDS IN THE SYSTEM:

STORAGE:

Records are maintained in paper and/or electronic form.

RETRIEVABILITY:

These records are retrieved by the name of the individual on whom they are maintained.

SAFEGUARDS:

Paper records are maintained in locked file storage areas or in specified areas to which only authorized personnel have access. Electronic records are maintained in a secured electronic system accessible only to on-site OGE employees. An individual OGE employee has access only to his or her own record. In addition, individual records in the system are available to authorized OGE personnel whose duties require access.

RETENTION AND DISPOSAL:

In accordance with the applicable OGE records disposal schedule, these records are retained as long as the individual is an employee of OGE. Disposal of paper records is by shredding, and disposal of electronic records is by deletion.

SYSTEM MANAGER(S) AND ADDRESS:

Deputy Director, Office of Administration and Information Management, Office of Government Ethics, Suite 500, 1201 New York Avenue, NW., Washington, DC 20005-3917.

NOTIFICATION PROCEDURE:

OGE employees wishing to inquire whether this system of records contains information about them may access the system directly or contact the Deputy Director, Office of Administration and Information Management, Office of Government Ethics.

Individuals wishing to make such an inquiry must furnish the following information for their records to be located and identified:

a. Full name.

RECORD ACCESS PROCEDURES:

All current OGE employees have full access to and complete control over their individual record and may access the information at any time, or they may contact the Deputy Director, Office of Administration and Information Management, Office of Government Ethics. Individuals must furnish the following information for their records to be located and identified:

a. Full name.

Individuals requesting access must also follow OGE Privacy Act regulations regarding verification of identify and access to records (5 CFR part 2606).

CONTESTING RECORD PROCEDURES:

OGE employees have full access to and complete control over their individual record and may amend information at any time, or they may contact the Systems Manager. Individuals must furnish the following information for their records to be located and identified:

a. Full name.

Individuals requesting amendment must also follow OGE's Privacy Act regulations regarding verification of identity and amendment of records (5 CFR part 2606).

RECORD SOURCE CATEGORIES:

Information in this system of records is obtained from:

a. The individual on whom the record is maintained.

EXEMPTIONS CLAIMED FOR THE SYSTEM:

None.

[FR Doc. 03-1101 Filed 1-21-03; 8:45 am]

BILLING CODE 6345-02-P